NUCLEAR REGULATORY COMMISSION

[Docket Number 030-01672]

Notice of Availability of Environmental Assessment and Finding of No Significant Impact for License Amendment for the Fort Wayne State Developmental Center, Fort Wayne, IN

AGENCY: Nuclear Regulatory Commission.

ACTION: Notice of availability of Environmental Assessment and Finding of No Significant Impact.

FOR FURTHER INFORMATION CONTACT: William Snell, Division of Nuclear Materials Safety, U.S. Nuclear Regulatory Commission, Region III, 2443 Warrenville Road, Lisle, Illinois 60532; telephone (630) 829-9871; or by e-mail at wgs@nrc.gov.

SUPPLEMENTARY INFORMATION:

I. Introduction

The U.S. Nuclear Regulatory Commission (NRC) is considering the issuance of an amendment to Material License No. 13-13530-01 issued to Fort Wayne State Developmental Center (the licensee), to terminate its license and release the licensee's Fort Wayne, Indiana facilities for unrestricted use.

The NRC staff has prepared this environmental assessment (EA) to support this licensing action in accordance with the requirements of 10 CFR Part 51. Based on the EA, the NRC has concluded that a finding of No Significant Impact (FONSI) is appropriate. The amendment will be issued following the publication of this Notice.

II. EA Summary

The purpose of the proposed action is to terminate the Fort Wayne State Developmental Center's license and release the licensee's facilities in Fort Wayne, Indiana, for unrestricted use. The NRC licensed Fort Wayne State Developmental Center for in-vitro studies and tracer experiments in laboratory animals using hydrogen-3 (H-3), carbon-14 (C-14), phosphorus (P-32), and any byproduct material listed in Section 31.11(a) of 10 CFR Part 31. On October 9, 2003, Fort Wayne State Developmental Center submitted a request to terminate its license at its Fort Wayne, Indiana facilities, and release the facilities for unrestricted use. Fort Wayne State Developmental Center provided survey results which demonstrated that the facilities were in compliance with Title 10, Code of Federal Regulations, 10 CFR 20.1402, “Radiological Criteria for Unrestricted Use.” No radiological remediation activities are required to complete the proposed action. The NRC staff has reviewed the information provided and surveys performed by Fort Wayne State Developmental Center to demonstrate compliance with the license termination criteria in Subpart E of 10 CFR 20.1402, “Radiological Criteria for Unrestricted Use,” to ensure the NRC's decision is protective of public health and safety and the environment.

III. Finding of No Significant Impact

The staff has prepared the EA (summarized above) in support of Fort Wayne State Developmental Center's proposed license amendment to terminate its license and release the Fort Wayne, Indiana facilities for unrestricted use. Based on its review, the staff has determined that the affected environment and the environmental impacts associated with the decommissioning of Fort Wayne State Developmental Center's facilities are bounded by the impacts evaluated by the “Generic Environmental Impact Statement in Support of Rulemaking on Radiological Criteria for License Termination of NRC-Licensed Nuclear Facilities” (NUREG-1496). Additionally, no non-radiological impacts were identified. The staff also finds that the proposed release for unrestricted use of the Fort Wayne State Developmental Center's facilities is in compliance with 10 CFR 20.1402, and finds no other activities in the area that could result in cumulative impacts. On the basis of the EA, the staff has concluded that the environmental impacts from the proposed action would not be significant. Accordingly, the staff has determined that a FONSI is appropriate, and has determined that the preparation of an Environmental Impact Statement is not warranted.

IV. Further Information

In accordance with 10 CFR 2.390 of the NRC's “Rules of Practice,” Fort Wayne State Developmental Center's request, the EA summarized above, and the documents related to this proposed action are available electronically for public inspection and copying from the Publicly Available Records (PARS) component of NRC's document system (ADAMS). ADAMS is accessible from the NRC Web site at http://www.nrc.gov/reading-rm/adams.html. These documents include Fort Wayne State Developmental Center's letter dated October 9, 2003, with enclosures (Accession No. ML040620687); and the EA summarized above (Accession No. ML041190657). These documents may also be viewed electronically on the public computers located at the NRC's Public Document Room (PDR), O 1 F21, One White Flint North, 11555 Rockville Pike, Rockville, MD 20852. The PDR reproduction contractor will copy documents for a fee. Persons who do not have access to ADAMS or who encounter problems in accessing the documents located in ADAMS, should contact the NRC PDR reference staff by telephone at 1-800-397-4209 or (301) 415-4737, or by e-mail to pdr@nrc.gov.

Dated at Lisle, Illinois, this 30th day of April 2004.
George M. McCann,
Acting Chief, Decommissioning Branch, Division of Nuclear Materials Safety, RIII.

[FR Doc. 04-10516 Filed 5-7-04; 8:45 am]

BILLING CODE 7590-01-P